DEPARTMENT OF ENERGY

Federal Energy Regulatory Commission

[Project No. 1855-030]

TransCanada Hydro Northeast Inc., Town of Rockingham, VT, Bellows Falls Power Company, LLC, Vermont Hydro-Electric Power Authority; Notice of Deadline To File Answers to Motion

August 19, 2005.

On January 26, 2005, as amended May 24, 2005, TransCanada Hydro Northeast Inc. (TC Hydro NE); the Town of Rockingham, Vermont (the Town); Bellows Falls Power Company, LLC (BFPC); and Vermont Hydro-Electric Power Authority (VHPA) requested Commission approval to transfer the license for the Bellows Falls Project No. 1855 from TC Hydro NE to the Town and BFPC as co-licensees and for approval of a financing plan whereby VHPA would, at closing, take title to project property and transfer it to the Town.

The Town, BFPC, and VHPA filed a motion on August 10, 2005, requesting approval to substitute as a transferee/applicant VHPA for the Town. Movants filed a supplement to their motion on August 17, 2005. The deadline for filing answers to the motion and supplement is 15 days following the filing date of the supplement, or September 1, 2005. See 18 CFR 385.213(d)(1) (2005).

Linda Mitry,
Deputy Secretary.

[FR Doc. E5-4666 Filed 8-25-05; 8:45 am]

BILLING CODE 6717-01-P